NATIONAL CREDIT UNION ADMINISTRATION

Sunshine Act; Notice of Agency Meeting

Time and Date: 10 a.m., Thursday, December 17, 2009.

Place: Board Room, 7th Floor, Room 7047, 1775 Duke Street, Alexandria, VA 22314-3428.

Status: Open.

Matters to be Considered: 1. Proposed Rule—Part 701 of NCUA's Rules and Regulations, Interpretive Ruling and Policy Statement (IRPS) 09-1, NCUA's Chartering and Field of Membership Policies.

2. Final Rule—Section 701.21(f) of NCUA's Rules and Regulations, Exception to the Maturity Limit on Second Mortgages.

3. Insurance Fund Report.

Recess: 11:15 a.m.

Time and Date: 11:30 a.m., Thursday, December 17, 2009.

Place: Board Room, 7th Floor, Room 7047, 1775 Duke Street, Alexandria, VA 22314-3428.

Status: Closed.

Matters to be Considered: 1. Cedar Point Federal Credit Union's Appeal of Denial by Regional Director of its Request to Convert to Community Charter. Closed pursuant to Exemptions (4) and (8).

2. Consideration of Supervisory Activities. Closed pursuant to Exemptions (8), (9)(A)(ii) and 9(B).

3. Personnel. Closed pursuant to Exemption (2).

FOR FURTHER INFORMATION CONTACT: Mary Rupp, Secretary of the Board, Telephone: 703-518-6304.

Mary Rupp,
Secretary of the Board.

[FR Doc. E9-29832 Filed 12-10-09; 4:15 pm]

BILLING CODE P